DEPARTMENT OF AGRICULTURE

Agricultural Marketing Service

7 CFR Part 983

[Doc. No. AMS-SC-16-0057; SC16-983-1 CR]

Pistachios Grown in California, Arizona, and New Mexico; Continuance Referendum

AGENCY: Agricultural Marketing Service, USDA.

ACTION: Referendum order.

SUMMARY: This document directs that a referendum be conducted among eligible producers of pistachios grown in California, Arizona, and New Mexico to determine whether they favor continuance of the marketing order that regulates the handling of pistachios produced in the production area.

DATES: The referendum will be conducted from November 1 through November 18, 2016. To vote in this referendum, producers must have produced pistachios within the designated production area during the period September 1, 2015, through August 31, 2016.

ADDRESSES: Copies of the marketing order may be obtained from the referendum agents at the California Marketing Field Office, 2202 Monterey Street, Suite 102B, Fresno, California 93721-3129, or the Office of the Docket Clerk, Marketing Order and Agreement Division, Specialty Crops Program, AMS, USDA, 1400 Independence Avenue SW., STOP 0237, Washington, DC 20250-0237; Fax: (202) 720-8938; or Internet: www.regulations.gov.

FOR FURTHER INFORMATION CONTACT: Peter Sommers, Marketing Specialist, or Jeffrey Smutny, Regional Director, California Marketing Field Office, Marketing Order and Agreement Division, Specialty Crops Program, AMS, USDA; Telephone: (559) 487-5901, Fax: (559) 487-5906, or Email: Peter.Sommers@ams.usda.gov or Jeffrey.Smutny@ams.usda.gov.

SUPPLEMENTARY INFORMATION: Pursuant to Marketing Order No. 983 (7 CFR part 983), hereinafter referred to as the “order,” and the applicable provisions of the Agricultural Marketing Agreement Act of 1937, as amended (7 U.S.C. 601-674), hereinafter referred to as the “Act,” it is hereby directed that a referendum be conducted to ascertain whether continuance of the order is favored by the producers. The referendum shall be conducted from November 1 through November 18, 2016, among pistachio producers in the production area. Only pistachio producers who were engaged in the production of pistachios during the period of September 1, 2015, through August 31, 2016, may participate in the continuance referendum.

USDA has determined that continuance referenda are an effective means for determining whether producers favor the continuation of marketing order programs. USDA would consider termination of the order if continuance is not favored by a two-thirds majority of voting producers or a two-thirds majority of the volume represented in the referendum.

In evaluating the merits of continuance versus termination, USDA will consider the results of the continuance referendum and other relevant information regarding operation of the order. USDA will evaluate the order's relative benefits and disadvantages to growers, handlers, and consumers to determine whether continuing the order would tend to effectuate the declared policy of the Act.

In accordance with the Paperwork Reduction Act of 1995 (44 U.S.C. Chapter 35), the ballot materials used in the referendum have been approved by the Office of Management and Budget (OMB), under OMB No. 0581-0215, Pistachios Grown in California, Arizona, and New Mexico. It has been estimated that it will take an average of 20 minutes for each of the approximately 1,150 growers of California, Arizona, and New Mexico pistachios to cast a ballot. Participation is voluntary. Ballots postmarked after November 18, 2016, will not be included in the vote tabulation.

Peter Sommers and Jeffrey Smutny of the California Marketing Field Office, Specialty Crop Programs, AMS, USDA, are hereby designated as the referendum agents of the Secretary of Agriculture to conduct this referendum. The procedure applicable to the referendum shall be the “Procedure for the Conduct of Referenda in Connection With Marketing Orders for Fruits, Vegetables, and Nuts Pursuant to the Agricultural Marketing Agreement Act of 1937, as Amended” (7 CFR part 900.400-900.407).

Ballots will be mailed to all producers of record and may also be obtained from the referendum agents or from their appointees.

List of Subjects in 7 CFR Part 983

Marketing agreements and orders, Pistachios, Reporting and recordkeeping requirements.

Authority: 7 U.S.C. 601-674.

Dated: August 10, 2016.
Elanor Starmer,
Administrator, Agricultural Marketing Service.

[FR Doc. 2016-19531 Filed 8-15-16; 8:45 am]

BILLING CODE P